DEPARTMENT OF HOMELAND SECURITY

Bureau of Customs and Border Protection

Automated Commercial Environment (ACE): Announcement of a National Customs Automation Program Test of Automated Truck Manifest for Truck Carrier Accounts

AGENCY: Bureau of Customs and Border Protection.

ACTION: General notice.

SUMMARY: This document announces that the Bureau of Customs and Border Protection (CBP), in conjunction with the Department of Transportation, Federal Motor Carrier Safety Administration (FMCSA), plans to conduct a National Customs Automation Program (NCAP) test concerning the transmission of automated truck manifest data. This notice provides a description of the test process, outlines the development and evaluation methodology to be used, sets forth eligibility requirements for participation, and invites public comment on any aspect of the planned test.

DATES: The test will commence no earlier than November 29, 2004. Comments concerning this notice and all aspects of the announced test may be submitted at any time during the test period.

ADDRESSES: Written comments concerning program, policy and technical issues should be submitted to Mr. Thomas Fitzpatrick via e-mail at Thomas.Fitzpatrick@dhs.gov.

FOR FURTHER INFORMATION CONTACT: Mr. Thomas Fitzpatrick via e-mail at Thomas.Fitzpatrick@dhs.gov.

SUPPLEMENTARY INFORMATION:

Background

The CBP Modernization Program has been created to improve efficiency and security, increase effectiveness, and reduce costs for the Bureau of Customs and Border Protection (CBP) and all of its communities of interest. The ability to meet these objectives depends heavily on successfully modernizing CBP business functions and the information technology that supports those functions.

The initial thrust of the Customs and Border Protection Modernization Program (see North American Free Trade Agreement Implementation Act, Pub. L. 103-182, 107 Stat. 2057, 2170 (December 8, 1993)) focuses on Trade Compliance and the development of the Automated Commercial Environment (ACE) through the National Customs Automation Program (NCAP). The purposes of ACE, successor to the Automated Commercial System (ACS), are to streamline business processes, to facilitate growth in trade, to ensure cargo security, and to foster participation in global commerce, while ensuring compliance with U.S. laws and regulations. Development of ACE will consist of many releases. Each release, while individually achieving critical business needs, will also set forth the foundation for the subsequent releases.

The component for which this document is announcing a test involves allowing participating Truck Carrier Accounts to transmit electronic manifest data in ACE (including advance cargo information as required by section 343 of the Trade Act of 2002, as amended by the Maritime Transportation Act of 2002 (see 68 FR 68140, December 5, 2003)). Truck Carrier Accounts who participate in this test will have the ability to electronically transmit the truck manifest data and obtain release of their cargo, crew, conveyances, and equipment via the ACE Portal or electronic data interchange (EDI) messaging. The Federal Motor Carrier Safety Administration (FMCSA) will participate in this test.

Authorization for the Test

The Customs Modernization provisions in the North American Free Trade Agreement Implementation Act provide the Commissioner of CBP with authority to conduct limited test programs or procedures designed to evaluate planned components of the NCAP. This test is authorized pursuant to § 101.9(b) of the CBP Regulations (19 CFR 101.9(b)) which provides for the testing of NCAP programs or procedures. See T.D. 95-21. See also 67 FR 77128, dated December 16, 2002, which re-designated the NCAP program test of the account-based declaration prototype as the Free and Secure Trade (FAST) prototype and modified and expanded the prototype; and 68 FR 55405, dated September 25, 2003, which further modified the FAST prototype.

Implementation of the Test

This test of the Automated Truck Manifest will be conducted in a phased approach, with primary deployment scheduled for no earlier than November 29, 2004. At the initial stages of the test, truck manifest data will be transmitted for conveyances crossing at the ports of Blaine, Washington, and Buffalo, New York. Subsequent deployment will occur at Champlain, New York; Detroit, Michigan; Laredo, Texas; Otay Mesa, California; and Port Huron, Michigan, on dates to be announced. Implementation of the automated truck manifest functionality will not be immediate at all of the above referenced ports. CBP will announce the implementation and sequencing of truck manifest functionality at these ports as they occur. The test will eventually be expanded to include ACE Truck Carrier Account participants at all land border ports, and subsequent releases of ACE will include all modes of transportation. Additional participants and ports will be selected throughout the duration of the test. CBP will process additional Truck Carrier Account applications as CBP expands the universe of participation for this test.

Eligibility and Acceptance

Eligibility criteria for truck carrier participation was set forth in the Federal Register notice published February 4, 2004 (69 FR 5360). All Truck Carrier Account applications meeting the eligibility criteria were accepted. To be eligible for participation in this test, a carrier must have:

1. Submitted an application (i.e., statement of intent to establish an ACE Account and to participate in the testing of electronic truck manifest functionality) as set forth in the February 4, 2004, Federal Register notice (69 FR 5360);

2. Provided a Standard Carrier Alpha Code(s) (SCAC);

3. Provided the name, address, and e-mail of a point of contact to receive further information.

In addition, participants intending to use the ACE Secure Data Portal as the means to file the manifest must submit a statement of the ability to connect to the Internet. Participants intending to use an EDI interface will be required to first test their ability to send and receive electronic messages in either American National Standards Institute (ANSI) X12 or United Nations/Directories for Electronic Data Interchange for Administration, Commerce and Transport (UN/EDIFACT) format with CBP.

It is anticipated that future applications meeting the eligibility criteria will be accepted. Acceptance into this test does not guarantee eligibility for, or acceptance into, future technical tests.

Expansion of Participation

Participation in the automated truck manifest test will be expanded in the future as funding allows; however the eligibility criteria may differ from the criteria listed in this notice. Additionally, expansion of this test to allow future applicants to participate may be delayed due to funding or technological constraints. CBP will accept, hold, or reject additional Truck Carrier Account applications throughout the duration of the test. New applicants interested in participating in this test must submit an application, per the Account Application Process section of the February 4, 2004, Federal Register notice (69 FR 5360), to CBP, and will be notified of the status of their application (i.e., whether CBP has accepted their application for participation upon an initial expansion, or, is holding their application pending a further expansion of the test). CBP will notify any applicant not meeting the eligibility criteria or providing an incomplete application, and allow such applicant an opportunity to resubmit its application.

Eligible Truck Carrier Accounts are further reminded that participation in the automated electronic truck manifest functionality is not confidential. Lists of approved participants will be made available to the public.

Method of Transmission

For purposes of this test, an interface to the trade will be established that will support both manual Internet filing via the ACE Secure Data Portal and EDI filing via either ANSI X12 or UN/EDIFACT messaging. CBP supports multiple communication interfaces for accessing ACE through EDI. Each potential ACE participant must evaluate the options and select the most appropriate interface based upon participant performance and business requirements. The list of options includes:

• CBP Internet Protocol (IP) Virtual Private Network (VPN)/Message Queuing (MQ) Series over the Internet (new option)

• CBP Frame Relay/MQ Series Network

• Value Added Networks (VANS)

• Service Centers.

Description of the Test

Transmission of Data Prior to Arrival

Participants in the test of automated truck manifest functionality (Release 4 of ACE) are required to submit truck manifest data including advance cargo information at least one hour in advance of the arrival of the conveyance at the first U.S. port of crossing. If, however, a participant is filing data via the FAST prototype, information must be submitted at least 30 minutes prior to the arrival of the conveyance at the first U.S. port of crossing. This 30-minute or one-hour period will be measured from the time that CBP receives the final manifest submission. Use of the ACE truck manifest system in this test will satisfy required electronic presentation of cargo information for truck carriers as mandated by section 343(a) of the Trade Act of 2002, as amended.

Manifest Data

For purposes of this notice, a standard manifest consists of all of the CBP required data (listed below in a later section of this notice) for the establishment of a truck manifest. This data includes advance cargo information as required by the Trade Act of 2002, as amended by the Maritime Transportation Act of 2002. The data must be submitted either with each manifest submission or portions of this data can be drawn from data stored in the carrier's ACE account. Shipment information can be established in the ACE truck manifest system prior to its association with a specific trip, conveyance, equipment and crew. Conversely, information consisting of trip, conveyance, crew and equipment details can be submitted to ACE truck manifest prior to the submission of shipment details. In all cases, it is required that shipments match the trip to which they are associated.

A truck carrier will transmit manifest/cargo information and is responsible for the accuracy and completeness of the data filed on the electronic manifest. An electronic truck manifest will list the applicable combination of trip, conveyance, equipment and shipment details. The Truck Carrier Account owner will also have the option of delegating the right to transmit the manifest data to a Portal User on its Account.

For purposes of the initial stages of the test, the ACE truck manifest system will accept information regarding the splitting of shipments covered by house bills or master bills. It will not support the splitting of shipments when part is covered by a house bill and part by a master bill. Also, if a transmitting party uses the ACE truck manifest for a conveyance arrival, it must be used for all shipments arriving on that conveyance.

Test Processes Supported

The test will support the following processes: Free And Secure Trade (FAST), Pre-Arrival Processing System (PAPS), Border Release Advance Screening and Selectivity (BRASS), Section 321, and In-bond. Automated release processes include transponder and proximity card technology that are utilized in conjunction with the automated truck manifest to facilitate timely releases while maintaining a high level of border security. Transponder and proximity cards must be used in the FAST process and are recommended, but not required, for all other processes (i.e., PAPS, BRASS, Section 321, and In-bond).

The test processes are as follows:

PAPS

PAPS is the process for the electronic transmission of immediate delivery, entry, and entry summary data to CBP prior to conveyance arrival through ACS, using the Automated Broker Interface (ABI) module as indicated in 19 CFR 143.32(b). The PAPS system requires the designated entry filer to transmit the entry information via ABI to CBP for validation and risk assessment prior to arrival. For PAPS, the carrier will provide a Shipment Control Number (SCN), which is the Master Bill of Lading, Airway Bill or ProBill Number. If the carrier is transporting consolidated cargo it will provide both the SCN and its associated Bill Control Number (BCN), which is the House Bill of Lading, Airway Bill or ProBill Number issued by a transportation intermediary (e.g., freight forwarder, Non-Vessel Operating Common Carrier (NVOCC), or freight consolidator). The SCN number provided by the carrier must match the number supplied by the entry filer on the entry. A bar code used to report the Bill number will no longer be needed.

BRASS

BRASS provides for the tracking and releasing of highly repetitive shipments at land border locations. Parties currently on BRASS received a unique alphanumeric identifier known as a C-4 code when the BRASS application was received and approved by CBP. The C-4 code will be entered by the carrier into the manifest shipment records. In addition, the shipment records must contain the information set forth below (see Data Elements Required To Be Reported on the Electronic Manifest). It should be noted that new BRASS applications will not be entertained; only current BRASS users may use BRASS for the Automated Truck Manifest test.

Section 321

The Section 321 process provides for an electronic method to manifest and enter merchandise not exceeding $200 in value (which meets the regulatory requirements defined in 19 CFR 10.151 and 10.152) pursuant to 19 U.S.C. 1321. In order to file a Section 321 entry, in addition to the required shipment details listed below (see Data Elements Required To Be Reported on the Electronic Manifest), the following information is required: country of origin of the merchandise and value.

In-bond

In-bond transmissions may be made by the carrier when it knows that the shipment being transported is not to be released for consumption at the port of arrival and is destined for a port beyond that initial port. The in-bond process will support entries for Immediate Transportation (IT), Transportation and Exportation (T&E), and Immediate Exportation (IE). A declaration can be made on the manifest transmission to provide the necessary in-bond data for the shipment destined for another port. Alternatively, the in-bond request can be made via the ACS electronic in-bond transaction QP/WP or presentation of Customs Automated Forms Entry System (CAFES) bar code. Export of in-bond shipments may be reported via ABI (QP/WP).

FAST

Participants choosing to use FAST may use only FAST with regard to any particular trip. FAST transmissions will remain unchanged in the initial stages of the test. Truck carriers must submit advance electronic cargo information at least one half hour prior to the arrival of the conveyance at the first U.S. port following the requirements for FAST. The driver must be a registered FAST participant with a proximity card. The truck must be equipped with a transponder. The carrier and importer must be Customs Trade Partnership Against Terrorism (C-TPAT) participants. For participation on the southern border, the manufacturer also must be a C-TPAT participant and the equipment must be sealed.

CBP Return Messages

CBP trip, conveyance, crew, and shipment status messages will be generated and sent to the carrier, after the conveyance has arrived and is processed at the first U.S. port of arrival.

Data Elements Required To Be Reported on the Electronic Manifest

On December 5, 2003, CBP published in the Federal Register (68 FR 68140) the Final Rule regarding the Required Advance Electronic Presentation of Cargo Information. The following cargo information is required for all processes in the initial stage of the test (except FAST), with some noted modifications:

(1) Conveyance number, and (if applicable) equipment number (the number of the conveyance is its Vehicle Identification Number (VIN) or its license plate number and State of issuance; the equipment number, if applicable, refers to the identification number of any trailing equipment or container attached to the power unit. For purposes of this test, both the VIN and the license plate number are required);

(2) Carrier identification (i.e., the truck carrier identification SCAC code (the unique Standard Carrier Alpha Code) assigned for each carrier by the National Motor Freight Traffic Association);

(3) Trip number and, if applicable, the transportation reference number for each shipment (The transportation reference number is the freight bill number, or Pro Number, if such a number has been generated by the carrier. For purposes of this test the SCN and, if applicable, the associated BCNs are required);

(4) Container number(s) (for any containerized shipment, if different from the equipment number), and the seal numbers for all seals affixed to the equipment or container(s) (For purposes of this test, seal numbers will be enforced in FAST on the southern border);

(5) The foreign location where the truck carrier takes possession of the cargo destined for the U.S.;

(6) The scheduled date and time of arrival of the truck at the first port of entry in the U.S.;

(7) The numbers and quantities for the cargo laden aboard the truck as contained in the bill(s) of lading (this means the quantity of the lowest external packaging unit; numbers referencing only containers and pallets do not constitute acceptable information; for example, a container holding 10 pallets with 200 cartons should be described as 200 cartons);

(8) The weight of the cargo, or, for a sealed container, the shipper's declared weight of the cargo;

(9) A precise description of the cargo and/or the Harmonized Tariff Schedule (HTS) numbers to the 6-digit level under which the cargo will be classified. (Generic descriptions, specifically those such as freight of all kinds (FAK), general cargo, and cargo said to contain (STC) are not acceptable.);

(10) Internationally recognized hazardous material code when such cargo is being shipped by truck;

(11) The shipper's complete name and address, or identification number. (The identity of the foreign vendor, supplier, manufacturer, or other similar party is acceptable and the address of the foreign vendor, etc., must be a foreign address. By contrast, the identity of the carrier, freight forwarder, consolidator, or broker, is not acceptable. The identification number will be a unique number to be assigned by CBP upon the implementation of the Automated Commercial Environment; and

(12) The complete name and address of the consignee, or identification number. (The consignee is the party to whom the cargo will be delivered in the U.S., with the exception of Foreign Cargo Remaining on Board (FROB).) The identification number will be a unique number assigned by CBP upon implementation of the Automated Commercial Environment.

Additionally, for purposes of this test, the following information is requested (although not required pursuant to the December 5, 2003 final rule):

(13) DOT number;

(14) Person on arriving conveyance who is in charge;

(15) Names of all crew members;

(16) Date of birth of each crew member;

(17) Commercial driver's license (CDL)/drivers license number for each crew member;

(18) CDL/driver's license State/province of issuance for each crew member;

(19) CDL country of issuance for each crew member;

(20) Travel document number for each crew member;

(21) Travel document country of issuance for each crew member;

(22) Travel document State/province of issuance for each crew member;

(23) Travel document type for each crew member;

(24) Address for each crew member. (For purposes of this test, this is defined as the physical location, in the U.S., where a crew member will actually be on this particular trip. This could include a consignee's location, a hotel, a truck stop, or a family or friend's location. Those individuals possessing a FAST ID are exempt from the U.S. address requirement.);

(25) Gender of each crew member;

(26) Nationality/citizenship of each crew member;

(27) Method of transport (defined as the mode by which the merchandise crosses the international border);

(28) Conveyance type;

(29) Conveyance State/province of registration; and

(30) Equipment State/province of registration.

The submission of the following information is considered conditional and must be submitted only where applicable:

(31) Hazmat endorsement for each crew member;

(32) Names of all passengers;

(33) Date of birth of each passenger;

(34) Travel document number for each passenger;

(35) Travel document country of issuance for each passenger;

(36) Travel document State/province of issuance for each passenger;

(37) Travel document type for each passenger;

(38) Gender of each passenger;

(39) Nationality of each passenger;

(40) Import/export/in-transit indicator;

(41) Conveyance country of registration;

(42) Conveyance insurance company name;

(43) Conveyance insurance policy number;

(44) Year of issuance;

(45) Insurance amount;

(46) Transponder number;

(47) Shipment release type;

(48) Equipment type;

(49) Equipment country of registration;

(50) Conveyance or equipment instrument of international traffic indicator;

(51) Estimated date of U.S. departure (for use with T&E or IE);

(52) In-bond destination;

(53) Onward carrier (the SCAC code of the carrier to whom the In-bond goods are being transferred);

(54) Foreign port of unloading;

(55) Place of receipt;

(56) Service type (the type of shipping contract);

(57) Party, ID number, and type (for any other party to the transaction listed on the trucker's bill of lading);

(58) C-4 code;

(59) Shipment identifier (any number that the carrier may wish to pass on to the broker, i.e., purchase order, commercial invoice, etc.);

(60) Paperless in-bond number;

(61) In-bond CF-7512 number;

(62) Bonded carrier ID number;

(63) Transfer carrier (intended to be the cartman, local carrier);

(64) Transfer destination firms code;

(65) Hazmat contact;

(66) FDA freight indicator (identifies FDA jurisdiction over the shipment; this is not the prior notice requirement as set forth in the Bio-Terrorism Act);

(67) Country of origin of the cargo;

(68) Value; and

(69) Entry type code.

The submission of the following information is considered optional upon the discretion of the submitting party:

(70) Marks and numbers (on packaging to be distinguished from numbers required by advance cargo information).

Misconduct Under the Test

If a test participant fails to follow the terms and conditions of this test, fails to exercise reasonable care in the execution of participant obligations, fails to abide by applicable laws and regulations, misuses the ACE Portal, engages in any unauthorized disclosure or access to the ACE Portal, or engages in any activity which interferes with the successful evaluation of the new technology, the participant may be subject to civil and criminal penalties, administrative sanctions, liquidated damages, and/or suspension from this test.

Suspensions for misconduct will be administered by the Executive Director, Trade Compliance and Facilitation. A notice proposing suspension will be provided in writing to the participant. Such notice will apprise the participant of the facts or conduct warranting suspension and will inform the participant of the date that the suspension will begin. Any decision proposing suspension of a participant may be appealed in writing to the Assistant Commissioner, Office of Field Operations, within 15 calendar days of the notification date. Should the participant appeal the notice of proposed suspension, the participant must address the facts or conduct charges contained in the notice and state how compliance will be achieved. However, in the case of willful misconduct, or where public health, interest or safety is concerned, the suspension may be effective immediately.

Test Evaluation Criteria

To ensure adequate feedback, participants are required to participate in an evaluation of this test. CBP also invites all interested parties to comment on the design, conduct and implementation of the test at any time during the test period. CBP will publish the final results in the Federal Register and the CBP Bulletin as required by section 101.9(b) of the CBP Regulations (19 CFR 101.9(b)).

The following evaluation methods and criteria have been suggested:

1. Baseline measurements to be established through data analysis;

2. Questionnaire from both trade participants and CBP addressing such issues as:

• Workload impact (workload shifts/volume, cycle times, etc.);

• Cost savings (staff, interest, reduction in mailing costs, etc.);

• Policy and procedure accommodation;

• Trade compliance impact;

• Problem resolution;

• System efficiency;

• Operational efficiency;

• Other issues identified by the participant group.

Dated: September 8, 2004.
William S. Heffelfinger III,
Acting Assistant Commissioner, Office of Field Operations.

[FR Doc. 04-20585 Filed 9-10-04; 8:45 am]

BILLING CODE 4820-02-P